DEPARTMENT OF TRANSPORTATION

Federal Aviation Administration

Aviation Rulemaking Advisory Committee Teleconference on Transport Airplane and Engine Issues

AGENCY: Federal Aviation Administration (FAA), DOT.

ACTION: Notice of public teleconference.

SUMMARY: This notice announces a public teleconference of the FAA's Aviation Rulemaking Advisory Committee (ARAC) to discuss transport airplane and engine (TAE) issues.

DATES: The teleconference is scheduled for Wednesday, July 25, 2012, starting at 10 a.m. Pacific Daylight Time. Arrange for oral presentations by July 18, 2012.

ADDRESSES: FAA—Northwest Mountain Region, Fred Isaac conference room, 1601 Lind Ave. SW., Renton, WA 98057.

FOR FURTHER INFORMATION CONTACT: Ralen Gao, Office of Rulemaking, ARM-209, FAA, 800 Independence Avenue SW., Washington, DC 20591, Telephone (202) 267-3168, Fax (202) 267-5075, or email at ralen.gao@faa.gov.

SUPPLEMENTARY INFORMATION: Pursuant to Section 10(a)(2) of the Federal Advisory Committee Act (Pub. L. 92-463; 5 U.S.C. app. III), notice is given of an ARAC teleconference to be held July 25, 2012.

The agenda for the teleconference includes discussion of Materials Flammability Working Group Recommendations and a decision on whether to forward the recommendation to the FAA.

Attendance is open to the public, but will be limited to the availability of teleconference lines. Participation will be by teleconference only. Please confirm your participation with the person listed in the FOR FURTHER INFORMATION CONTACT section no later than July 18, 2012.

To participate, please contact the person listed in the FOR FURTHER INFORMATION CONTACT section by email or phone for the teleconference call-in number and passcode. Anyone calling from outside the Renton, WA, metropolitan area will be responsible for paying long-distance charges.

The public must make arrangements by July 18, 2012, to present oral statements at the teleconference. Copies of the documents to be presented to ARAC may be made available by contacting the person listed in the FOR FURTHER INFORMATION CONTACT section.

If you need assistance or require a reasonable accommodation for the meeting or meeting documents, please contact the person listed in the FOR FURTHER INFORMATION CONTACT section.

Issued in Washington, DC, on July 5, 2012.
Lirio Liu,
Acting Director, Office of Rulemaking.

[FR Doc. 2012-16842 Filed 7-9-12; 8:45 am]

BILLING CODE 4910-13-P